DEPARTMENT OF LABOR

Office of the Secretary

Submission for OMB Review; Comment Request

December 18, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on (202) 693-4129 or E-Mail: King-Darrin@dol.gov.

Comments should be sent to Office of Information and Regulatory Affairs, Attn: OMB Desk Officer for MSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Revision of a currently approved collection.

Agency: Mine Safety and Health Administration (MSHA).

Title: Notification of Legal Identity - 30 CFR Section 41.10, 41.11, 41.12, and 41.20.

OMB Number: 1219-0008.

Affected Public: Business or other for-profit.

Frequency: On occasion.

Type of Response: Recordkeeping and Reporting.

Number of Respondents: 6,625.

Reporting requirement | Annual responses | Average time per response (hours) | Estimated burden hours
Form 2000-7 (paper/new) | 830 | .5 | 415
Form 2000-7 (electronic/new) | 45 | .33 | 15
Form 2000-7 (paper/revision) | 4,150 | .25 | 1,038
Form 2000-7 (electronic/revision) | 1,600 | .17 | 267
Total | 6,625 |  | 1,735

Total Annualized Capital/Startup Costs: $0.

Total Annual Costs (operating/maintaining systems or purchasing services: $1,693.

Description: Section 109(d) of the Federal Mine Safety and Health Act of 1977 (Pub. L. 91-173 as amended by Pub. L. 95-164), requires each operator of a coal or other mine to file with the Secretary of Labor, the name and address of such mine, the name and address of the person who controls or operates the mine, and any revisions in such names and addresses. Title 30 CFR part 41 implements this requirement and provides for the mandatory use of MSHA Form 2000-7, Legal Identify Report, for notifying MSHA of the legal identity of the mine operator.

Ira L. Mills,
Departmental Clearance Officer.

[FR Doc. 01-31815 Filed 12-26-01; 8:45 am]

BILLING CODE 4510-43-M